DEPARTMENT OF COMMERCE

International Trade Administration

[A-570-863]

Ninth Administrative Review of Honey From the People's Republic of China: Extension of Time Limit for the Preliminary Results

AGENCY: Import Administration, International Trade Administration, Department of Commerce.

DATES: Effective Date: August 4, 2011.

FOR FURTHER INFORMATION CONTACT: Josh Startup, AD/CVD Operations, Office 9, Import Administration, International Trade Administration, U.S. Department of Commerce, 14th Street and Constitution Avenue, NW., Washington DC 20230; telephone- (202) 482-5260.

Background

On January 28, 2011, the Department of Commerce (“Department”) published in the Federal Register a notice of initiation of an administrative review of honey from the People's Republic of China (“PRC”), covering the period December 1, 2009 through November 30, 2010. See Initiation of Antidumping and Countervailing Duty Administrative Reviews in Part, 76 FR 5137 (January 28, 2011). On February 16, 2011, after receiving U.S. Customs and Border Protection (“CBP”) data, the Department selected Dongtai Peak Honey Industry Co., Ltd. (“Dongtai Peak”) as the respondent.

The Department sent its antidumping questionnaire to Dongtai Peak on February 25, 2011. On March 17, 2011, Dongtai Peak submitted its response to Section A of the Department's questionnaire. On April 4, 2011, Dongtai Peak submitted its Section C & D response. The Petitioners ¹ provided comments on Dongtai Peak's March 17, 2011 Section A and April 4, 2011 Sections C & D questionnaire responses on April 29, 2011. On May 20, 2011, Dongtai Peak filed its responses to the Department's Sections A, C & D Supplemental Questionnaires. On July 5, 2011, Dongtai Peak submitted its response to the Department's second Supplemental Questionnaire. On July 5, 2011, Dongtai Peak and petitioners submitted surrogate value information. The preliminary results of this administrative review are currently due on September 2, 2011.

¹ The American Honey Producers Association and the Sioux Honey Association.

Extension of Time Limits for the Preliminary Results

The Department determines that completion of the preliminary results of this review within the statutory time period is not practicable. The Department requires more time to gather and analyze surrogate value information, and to review questionnaire responses and issue supplemental questionnaires. Therefore, in accordance with section 751(a)(3)(A) of the Tariff Act of 1930, as amended (“Act”), we are extending the time period for issuing the preliminary results of review by 120 days until January 3, 2012.² The final results continue to be due 120 days after the publication of the preliminary results.

² 120 days from September 2, 2011, is Saturday, December 31, 2011. Monday, January 2, 2012, is designated as a federal holiday. Department practice dictates that where a deadline falls on a weekend or federal holiday, the appropriate deadline is the next business day. See Notice of Clarification: Application of “Next Business Day” Rule for Administrative Determination Deadlines Pursuant to the Tariff Act of 1930, As Amended, 70 FR 24533 (May 10, 2005).

This notice is published pursuant to section 751(a)(3)(A) of the Act and 19 CFR 351.213(h)(2).

Dated: July 29, 2011.
Christian Marsh,
Deputy Assistant Secretary for Antidumping and Countervailing Duty Operations.

[FR Doc. 2011-19820 Filed 8-3-11; 8:45 am]

BILLING CODE 3510-DS-P